FEDERAL DEPOSIT INSURANCE CORPORATION

Agency Information Collection Activities: Proposed Information Collection; Comment Request

AGENCY: Federal Deposit Insurance Corporation (FDIC).

ACTION: Notice and request for comment.

SUMMARY: In accordance with the Paperwork Reduction Act of 1995 (44 U.S.C. chapter 35), an agency may not conduct or sponsor, and the respondent is not required to respond to, an information collection unless it displays a currently valid Office of Management and Budget (OMB) control number. The FDIC is contemplating establishing a generic information collection to conduct occasional qualitative surveys in support of Alliance for Economic Inclusion (AEI) initiatives. The subject matter of the surveys would be determined by individual AEI regional area needs and areas of interest, but likely would include such topics as financial literacy education, asset building programs, retail banking services, and alternative financial services delivery channels. Survey respondents would typically include AEI coalition member financial institutions, but may also include non-AEI member financial institutions in regional areas served by AEIs. Depending on local needs, other organizations could also be surveyed as well.

DATES: Comments must be submitted on or before April 25, 2008.

ADDRESSES: Interested parties are invited to submit written comments by mail to Leneta Gregorie, Legal Division, Federal Deposit Insurance Corporation, 550 17th Street, NW., Washington, DC 20429; by FAX at (202) 898-8788; or by e-mail to comments@fdic.gov. All comments should refer to “Alliance for Economic Inclusion (AEI) Occasional Qualitative Surveys.” Copies of comments may also be submitted to the OMB desk officer for the FDIC, Office of Information and Regulatory Affairs, Office of Management and Budget, New Executive Office Building, Washington, DC 20503.

FOR FURTHER INFORMATION CONTACT: Interested members of the public may obtain additional information about the collection by contacting Leneta Gregorie at the address identified above or by calling 202-898-3719.

SUPPLEMENTARY INFORMATION:

Proposal to Seek OMB Approval for the Following New Collection of Information

Title: Alliance for Economic Inclusion (AEI) Occasional Qualitative Surveys.

OMB Number: New collection (3064-xxxx).

Frequency of Response: Occasional.

Affected Public: Primarily insured financial institutions in areas served by AEI coalitions, although other organizations could also be surveyed as well.

Estimated Number of Respondents: Up to 90 per collection.

Estimated time per response: Up to 1 hour per respondent.

Estimated Total Annual Burden: 90 respondents × 20 collections per year × 1 hour per response = 1,800 hours.

General Description of Collection

The AEI is a national initiative sponsored by the FDIC to help improve the economic well-being of low- and moderate-income individuals and families by improving their access to the U.S. banking system. To facilitate this effort, AEI has established broad-based coalitions of financial institutions, community- and faith-based organizations, state, and local governmental agencies, federal bank regulators, researchers, employers, and bank trade associations in various markets across the country to focus on the basic retail financial services needs of unbanked and underserved populations in their respective areas. Currently, there are nine AEI coalitions, one each focusing on: The “Black Belt” semi-rural area of Alabama; the greater Boston/Worcester area; the city of Chicago; the Austin/South Texas, Texas area; the Kansas City metropolitan area; the Louisiana and Mississippi Gulf Coast areas; the Baltimore, Maryland area; the Wilmington, Delaware area; and the city of Los Angeles. However, additional coalition(s) may be formed in the future. Each regional AEI has formed working groups to identify barriers and opportunities and works independently to develop innovative products and marketing strategies to bring the unbanked and underserved into the financial mainstream. Such products and strategies might include low-cost deposit accounts, low- or no-cost check cashing, affordable remittance products, free tax preparation, individual development accounts, coaching or other counseling assistance, and financial education. The purpose of surveys submitted to OMB under this generic information collection would be in furtherance of the objectives of the AEI working groups. A sample survey, proposed for use by the Wilmington AEI coalition, appears in Appendix A.

Although the members of each AEI initiative, rather than the FDIC, will be primarily responsible for developing survey contents, the FDIC does facilitate AEI initiatives by providing support services. Therefore, any AEI surveys would be conducted by the FDIC using its own staff and resources.

Technology will be used to the extent it is cost effective and possible to electronically distribute survey instruments and collect survey data. In addition, the FDIC will ensure that AEI surveys are consistent with rules governing federally conducted or sponsored information collections, conform to privacy rules, and do not request any information of a sensitive nature. It is not the intent of the FDIC to publish survey findings. All data from the surveys are for the information and use of the sponsoring AEI coalition.

Request for Comment

Comments are invited on: (a) Whether the collection of information is necessary for the proper performance of the FDIC's functions, including whether the information has practical utility; (b) the accuracy of the estimates of the burden of the information collection; (c) ways to enhance the quality, utility, and clarity of the information to be collected; (d) ways to minimize the burden of the information collection on respondents, including through the use of automated collection techniques or other forms of information technology; and (e) estimates of capital or start up costs, and costs of operation, maintenance and purchase of services to provide the information.

Appendix A—Proposed Survey of Retail Bank Services in Wilmington

1. Does your Bank offer in-house financial literacy education centrally, at your branches or provide funding to 3rd parties for this service?

Yes _ No_

If yes, please indicate if you offer multi-lingual education and locations:

2. Does your Bank offer banking products and services using multi-lingual marketing and promotional materials?

a. ATM; Bank by Phone; Internet Banking; Teller Services; New Loan Accounts; New Deposit Accounts

If yes, please indicate the languages and specific services you provide:

3. Does your bank offer bilingual banking literature and/or services?

Yes _ No_

If yes, please list available literature and language(s):

4. Does your bank offer free checking with no minimum account opening balance requirement?

Yes _ No_

If yes, please indicate any fees and/or requirements:

5. Does your bank offer other low cost deposit products?

Yes _ No_

If yes please describe the products:

6. Does your bank offer low cost money orders?

Yes _ No_

If yes, please indicate any fees and/or requirements:

7. Does your bank offer bill payment options at branches (such as payment of utility bills)?

Yes _ No_

If yes, please indicate any fees and/or requirements associated with this service:

8. Does your bank offer prepaid products?

Yes _ No_

If yes, please describe the products offered and indicate if there are associated fees:

9. Does your bank offer discounted first time home buyers mortgages either directly or through a 3rd party?

Yes _ No_

If yes, please describe the programs, including but not limited to any grants, waived fees, interest buy down, participation with local and state communities:

10. What type of secured loan and secured credit line products does your bank offer?

11. Does your bank participate in an Outreach Program?

Yes _ No_

If yes, please describe the program(s):

12. Does your bank offer international remittance services?

Yes _ No_

a) List any outgoing fees/incoming fees and/or requirements:

(b) List any other specialized remittance services (such as ATM/debit-cards):

13. What form(s) of identification are required for new accounts under your Customer Identification Program?

(a) List accepted form(s) of ID for U.S. persons:

(b) List accepted form(s) of ID for non-U.S. persons:

(c) How many forms of ID are required (indicate picture or non-picture)?

(d) If applicable, please list any non-documentary methods that are used to identify customers.

14. Does your bank accept consular cards for ID (such as the Mexican matricula consular)?

Yes _ No_

If yes, please specify which country(s) consular cards you accept:

15. Does your bank provide assistance with ITIN?

Yes _ No_

If yes, please describe any assistance that you provide (such as providing W7 forms):

16. Does your bank use an account or credit history check when opening up checking accounts?

Yes__ No__

If yes, please indicate which service you utilize:

CheckSystems:__ TeleCheck:__ Credit Bureau:__ Other:__

17. Does your bank participate in the Delaware EITC program?

If yes, what special products and/or services do you offer unbanked recipients of refunds under the program?

18. Please list any other services available at your bank that you feel may be applicable to this survey.

19. Please feel free to add any comments/suggestions concerning any challenges your bank has encountered when trying to serve the under-served customers such as immigrants (include suggestions for regulatory guidance).

Survey completed by:

Contact information:

Thank you very much for your assistance and cooperation. Please fax the completed form to: (Title and Name) at (Phone Number) or e-mail the completed form to (e-mail address)

Dated at Washington, DC, this 19th day of February, 2008.
Federal Deposit Insurance Corporation.
Robert E. Feldman,
Executive Secretary.

[FR Doc. E8-3377 Filed 2-22-08; 8:45 am]

BILLING CODE 6714-01-P